DEPARTMENT OF TRANSPORTATION

Federal Aviation Administration

14 CFR Part 39

[Docket No. FAA-2024-2315; Project Identifier AD-2023-00537-T; Amendment 39-22988; AD 2025-05-16]

RIN 2120-AA64

Airworthiness Directives; The Boeing Company Airplanes

AGENCY: Federal Aviation Administration (FAA), DOT.

ACTION: Final rule.

SUMMARY: The FAA is adopting a new airworthiness directive (AD) for certain The Boeing Company Model 737-800 series airplanes. This AD was prompted by a determination that the compliance time for the initial ultrasonic inspection required by AD 2019-11-06 is insufficient for certain airplanes. This AD requires reducing the compliance time for the ultrasonic inspection of the skin under the drag link assembly. The FAA is issuing this AD to address the unsafe condition on these products.

DATES: This AD is effective April 22, 2025.

The Director of the Federal Register approved the incorporation by reference of certain publications listed in this AD as of April 22, 2025.

ADDRESSES:

AD Docket: You may examine the AD docket at regulations.gov under Docket No. FAA-2024-2315; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110 SK57, Seal Beach, CA 90740-5600; telephone 562 797 1717; website myboeingfleet.com.

• You may view this material at the FAA, Airworthiness Products Section, Operational Safety Branch, 2200 South 216th St., Des Moines, WA. For information on the availability of this material at the FAA, call 206-231-3195. It is also available at regulations.gov under Docket No. FAA-2024-2315.

FOR FURTHER INFORMATION CONTACT: Owen Bley-Male, Aviation Safety Engineer, FAA, 2200 South 216th St., Des Moines, WA 98198; phone: 206-231-3992; email: owen.f.bley-male@faa.gov.

SUPPLEMENTARY INFORMATION:

Background

The FAA issued a notice of proposed rulemaking (NPRM) to amend 14 CFR part 39 by adding an AD that would apply to certain The Boeing Company Model 737-800 series airplanes. The NPRM published in the Federal Register on September 25, 2024 (89 FR 78260). The NPRM was prompted by a determination that the compliance time for the initial ultrasonic inspection required by AD 2019-11-06, Amendment 39-19652 (84 FR 27193, June 12, 2019) (AD 2019-11-06), is insufficient for Model 737-800 series airplanes that have been modified to a freighter configuration using Boeing Drawing 800A0003. In the NPRM, the FAA proposed to require reducing the compliance time for the ultrasonic inspection of the skin under the drag link assembly. The FAA is issuing this AD to address cracking found in the station (STA) 540 bulkhead chord and skin, which could result in the inability of a primary structural element to sustain limit load. The unsafe condition, if not addressed, could result in possible rapid decompression and loss of structural integrity of the airplane.

Discussion of Final Airworthiness Directive

Comments

The FAA received comments from Boeing and an individual, who supported the NPRM without change.

The FAA received comments from Aviation Partners Boeing (APB) and an individual who supported the NPRM and had additional comments. The following presents the comments received on the NPRM and the FAA's response to each comment.

Limited Organization Designation Authorization (ODA) Approvals

APB stated that Boeing does not have a delegation to approve repairs in areas affected by the split scimitar winglet configuration of Supplemental Type Certificate (STC) ST00830SE. APB also commented that approval by The Boeing Company Organization Designation Authorization (ODA), as specified in paragraph (j)(3) of the proposed AD, may not be given for an alternative method of compliance (AMOC) for alternative inspections and corrective actions in those areas, but such approval must be obtained as specified in paragraph (j)(1) of the proposed AD. APB added that Boeing retains approval delegation for findings related to fuselage structures affected by the proposed rule.

The FAA acknowledges and concurs with APB's assertions. However, no change to this AD is necessary. Paragraphs (g)(1) and (2) of this AD state that AMOC approval be obtained using a method approved in accordance with the procedures specified in “paragraph (j)” of this AD, and does not limit approvals to the provisions of paragraph (j)(1) or (3) of this AD. Therefore, AMOC approval in accordance with paragraphs (j)(1) or (3) of this AD would be provided based on whether the actions needing an AMOC apply to the APB design or the Boeing design.

Effect of Winglets on Accomplishment of the Proposed Actions

APB stated that accomplishing STC ST00830SE does not affect the actions specified in the proposed AD.

The FAA concurs with the commenter. The FAA has redesignated paragraph (c) of the proposed AD as paragraph (c)(1) of this AD and added paragraph (c)(2) to this AD to state that installation of STC ST00830SE does not affect the ability to accomplish the actions required by this AD. Therefore, for airplanes on which STC ST00830SE is installed, a “change in product” AMOC approval request is not necessary to comply with the requirements of 14 CFR 39.17.

Request for More Detailed AMOC Criteria

An individual suggested including more detailed criteria for what would be considered an acceptable AMOC. The individual reasoned that clear and specific guidelines for AMOCs would provide greater clarity and consistency, helping to ensure that any AMOC would meet safety standards.

The FAA agrees to clarify. The AMOC process is outlined in 14 CFR 39.17 and 39.19, which specify that any AMOC request must include the specific actions proposed to address the unsafe condition, and that the proposed actions must provide an acceptable level of safety. AMOCs may be requested under the provisions of paragraph (j) of this AD. An AMOC may be applicable only to a specific airplane (e.g., to repair cracks) or to an entire fleet (e.g., to use revised service information). The FAA has therefore determined that adding additional AMOC guidelines or criteria to this AD is unnecessary. The FAA has not changed this AD in this regard.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Terminating Action for Certain Requirements of AD 2019-11-06

Accomplishing the actions required by this AD replaces the corresponding initial ultrasonic inspections and on-condition actions required by paragraph (g) of AD 2019-11-06 for Model 737-800 series airplanes converted to a freighter configuration using Boeing Drawing 800A0003 only.

Material Incorporated by Reference Under 1 CFR Part 51

The FAA reviewed Boeing Alert Service Bulletin 737-53A1368, dated February 27, 2018. This material specifies an ultrasonic inspection of the skin under the drag link assembly and repair for any cracks; repetitive inspections for any cracks, including ultrasonic inspections, high frequency eddy current inspections, low frequency eddy current inspections, and detailed inspections; and a preventative modification if no crack is found.

The FAA also reviewed Boeing 737-800BCF Airworthiness Limitations, D140A006, Revision L, dated April 1, 2021. This material contains required inspections for principal structural element items. Section 5.2.1 of this material identifies the airplanes affected by this AD.

This material is reasonably available because the interested parties have access to it through their normal course of business or by the means identified in the ADDRESSES section.

Costs of Compliance

The FAA estimates that this AD affects 18 airplanes of U.S. registry. The FAA estimates the following costs to comply with this AD:

Estimated Costs for Required Actions
Action | Labor cost | Parts cost | Cost per product | Cost on U.S. operators
Initial inspection | Up to 23 work-hours × $85 per hour = Up to $1,955 | $0 | Up to $1,955 | Up to $35,190.

The FAA estimates the following costs to do any on-condition actions that would be required based on the results of the inspection. The agency has no way of determining the number of airplanes that might need these actions:

Estimated Costs for On-Condition Actions
Labor cost | Parts cost | Cost per product
Up to 56 work-hours × $85 per hour = Up to $4,760 | $24,020 | Up to $28,780.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-16 The Boeing Company: Amendment 39-22988; Docket No. FAA-2024-2315; Project Identifier AD-2023-00537-T.

(a) Effective Date

This airworthiness directive (AD) is effective April 22, 2025.

(b) Affected ADs

This AD affects AD 2019-11-06, Amendment 39-19652 (84 FR 27193, June 12, 2019) (AD 2019-11-06).

(c) Applicability

(1) This AD applies to The Boeing Company Model 737-800 series airplanes, certificated in any category, that have been converted to a freighter configuration using Boeing Drawing 800A0003 before April 1, 2021, and are identified as Group A in Section 5.2.1, “Effectivity,” of Boeing 737-800BCF Airworthiness Limitations, D140A006, Revision L, dated April 1, 2021.

Note 1 to paragraph (c)(1): Airplanes with a 737-800BCF designation are Model 737-800 series airplanes that have been converted to a freighter configuration using Boeing Drawing 800A0003.

(2) Installation of Supplemental Type Certificate (STC) ST00830SE does not affect the ability to accomplish the actions required by this AD. Therefore, for airplanes on which STC ST00830SE is installed, a “change in product” alternative method of compliance (AMOC) approval request is not necessary to comply with the requirements of 14 CFR 39.17.

(d) Subject

Air Transport Association (ATA) of America Code 53, Fuselage.

(e) Unsafe Condition

This AD was prompted by a determination that the compliance time for the initial ultrasonic inspection of the skin under the drag link assembly required by AD 2019-11-06 must be reduced for certain airplanes. The FAA is issuing this AD to address cracking found in the station (STA) 540 bulkhead chord and skin, which could result in the inability of a primary structural element to sustain limit load. The unsafe condition, if not addressed, could result in possible rapid decompression and loss of structural integrity of the airplane.

(f) Compliance

Comply with this AD within the compliance times specified, unless already done.

(g) Required Actions

(1) For airplanes identified as Group 1, Configuration 2, 3, 4, or 5, or as Group 5 in Boeing Alert Service Bulletin 737-53A1368, dated February 27, 2018: At the compliance time specified in paragraph (g)(1)(i), (ii), (iii), or (iv) of this AD, whichever occurs last, perform an ultrasonic inspection of the skin under the drag link assembly in accordance with the Accomplishment Instructions, Part 2, of Boeing Alert Service Bulletin 737-53A1368, dated February 27, 2018. Do all applicable on-condition actions for the Part 2 inspection at the times specified in paragraph 1.E., “Compliance,” of Boeing Alert Service Bulletin 737-53A1368, dated February 27, 2018, except where Boeing Alert Service Bulletin 737-53A1368, dated February 27, 2018, specifies contacting Boeing for repair instructions, this AD requires doing the repair using a method approved in accordance with paragraph (j) of this AD.

(i) Before the airplane accumulates 17,000 total flight cycles.

(ii) Within 5,000 flight cycles after July 17, 2019 (the effective date of AD 2019-11-06).

(iii) Within 12 months after the effective date of this AD.

(iv) Within 1,000 flight cycles after the effective date of this AD.

(2) For airplanes identified as Group 1, Configuration 1, 3, or 4 in Boeing Alert Service Bulletin 737-53A1368, dated February 27, 2018: At the compliance time specified in paragraph (g)(2)(i), (ii), (iii), or (iv) of this AD, whichever occurs last, perform an ultrasonic inspection of the repair tripler under the drag link assembly in accordance with the Accomplishment Instructions, Part 6, of Boeing Alert Service Bulletin 737-53A1368, dated February 27, 2018. Do all applicable on-condition actions for the Part 6 inspection at the times specified in paragraph 1.E., “Compliance,” of Boeing Alert Service Bulletin 737-53A1368, dated February 27, 2018, except where Boeing Alert Service Bulletin 737-53A1368, dated February 27, 2018, specifies contacting Boeing for repair instructions, this AD requires doing the repair using a method approved in accordance with paragraph (j) of this AD.

(i) Before the airplane accumulates 30,000 total flight cycles.

(ii) Within 5,000 flight cycles after July 17, 2019 (the effective date of AD 2019-11-06).

(iii) Within 12 months after the effective date of this AD.

(iv) Within 1,000 flight cycles after the effective date of this AD.

(i) Terminating Action for Certain Requirements of AD 2019-11-06

Accomplishing the actions required by this AD replaces the corresponding initial ultrasonic inspections and on-condition actions required by paragraph (g) of AD 2019-11-06 for Model 737-800 series airplanes converted to a freighter configuration using Boeing Drawing 800A0003 only.

(j) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(k) Related Information

For more information about this AD, contact Owen Bley-Male, Aviation Safety Engineer, FAA, 2200 South 216th St., Des Moines, WA 98198; phone: 206-231-3992; email: owen.f.bley-male@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Boeing 737-800BCF Airworthiness Limitations, D140A006, Revision L, dated April 1, 2021.

(ii) Boeing Alert Service Bulletin 737-53A1368, dated February 27, 2018.

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on March 7, 2025.
Peter A. White,
Deputy Director, Integrated Certificate Management Division,Aircraft Certification Service.

[FR Doc. 2025-04319 Filed 3-17-25; 8:45 am]

BILLING CODE 4910-13-P